SECURITIES AND EXCHANGE COMMISSION

Sunshine Act Meeting

FEDERAL REGISTER CITATION OF PREVIOUS ANNOUNCEMENT: [To be published on Monday, October 15, 2001].

STATUS: Closed meeting.

PLACE: 450 Fifth Street NW., Washington, DC.

DATE AND TIME OF PREVIOUSLY ANNOUNCED MEETING: Tuesday, October 16, 2001 at 10 a.m.

CHANGE IN THE MEETING: Additional Items.

The following items have been added to the closed meeting scheduled for Tuesday, October 16, 2001:

Institution of injunctive actions; and

Institution of an administrative proceeding of an enforcement nature.

Commissioner Unger, as duty officer, determined that Commission business required to above change and that no earlier notice thereof was possible.

At times, changes in Commission priorities require alterations in the scheduling of meeting items. For further information and to ascertain what, if any, matters have been added, deleted or postponed, please contact: The Office of the Secretary at (202) 942-7070.

Dated: October 12, 2001.
Jonathan G. Katz,
Secretary.

[FR Doc. 01-26272 Filed 10-15-01; 12:43 pm]

BILLING CODE 8010-01-M